DEPARTMENT OF TRANSPORTATION

Federal Aviation Administration

14 CFR Part 39

[Docket No. 2002-CE-23-AD; Amendment 39-13772; AD 2004-17-01]

RIN 2120-AA64

Airworthiness Directives; Cessna Aircraft Company Models 208 and 208B Airplanes

AGENCY: Federal Aviation Administration (FAA), DOT.

ACTION: Final rule.

SUMMARY: The FAA supersedes Airworthiness Directive (AD) AD 2002-22-17, which applies to all Cessna Aircraft Company (Cessna) Models 208 and 208B airplanes; and AD 2003-21-04, which applies to certain Cessna Models 208 and 208B airplanes. This AD requires you to repetitively inspect the flap bellcranks for cracks and eventually replace these bellcranks. The installation of a newly designed bellcrank to increase the life limits is terminating action for the repetitive inspections. This AD is the result of these developments: Since FAA issued AD 2002-22-17 and AD 2003-21-04, Cessna designed a new flap bell crank with a life limit of 40,000 landings instead of 7,000 landings. Also, FAA has done more analysis and examination of cracks and missing/incomplete welds in all of the bell cranks. This failure could lead to damage to the flap system and surrounding structure and result in reduced or loss of control of the airplane.

DATES: This AD becomes effective on September 26, 2004.

As of December 31, 2002 (67 FR 68508, November 12, 2002), the Director of the Federal Register approved the incorporation by reference of Cessna Service Bulletin No. CAB02-1, dated February 11, 2002.

As of October 21, 2003 (68 FR 59707, October 17, 2003), the Director of the Federal Register approved the incorporation by reference of the following:

Cessna Caravan Service Bulletin No.: CAB03-11, Revision 1, dated September 24, 2003;

Cessna Caravan Service Bulletin No.: CAB02-12, revision 1, dated January 27, 2003; and

Cessna Caravan Service Kit No.: SK208-148A, dated January 27, 2003 (Original issue: October 21, 2002).

ADDRESSES: You may get the service information identified in this AD from Cessna Aircraft Company, Product Support, P.O. Box 7706, Wichita, Kansas 67277; telephone: (316) 517-5800; facsimile: (316) 942-9006.

You may view the AD docket at FAA, Central Region, Office of the Regional Counsel, Attention: Rules Docket No. 2002-CE-23-AD, 901 Locust, Room 506, Kansas City, Missouri 64106. Office hours are 8 a.m. to 4 p.m., Monday through Friday, except Federal holidays.

FOR FURTHER INFORMATION CONTACT: Paul Nguyen, Aerospace Engineer, FAA, Wichita Aircraft Certification Office, 1801 Airport Road, Room 100, Wichita, Kansas 67209; telephone: 316-946-4125; facsimile: 816-946-4107.

SUPPLEMENTARY INFORMATION:

Discussion

What events have caused this AD? The need to reduce the life limit and repetitively inspect the inboard forward flap bellcrank on Cessna Models 208 and 208A airplanes caused us to issue AD 2002-22-17, Amendment 39-12944 (67 FR 68508, November 12, 2002); and AD 2003-21-04, Amendment 39-13339 (68 FR 59707, October 17, 2003).

Since FAA issued AD 2002-22-17 and AD 2003-21-04, Cessna has designed a new flap bellcrank, part number (P/N) 2622311-7, with a life limit of 40,000 landings (instead of 7,000 landings). The new flap bellcrank (P/N 2622311-7) may be substituted for the older flap bellcranks, P/N 2622281-2, 2622281-12, or 2692001-2. Installation of this new flap bellcrank will eliminate the need for repetitive inspections.

What is the potential impact if FAA took no action? Cracks in the bellcrank could result in failure of this part. This failure could lead to damage to the flap system and surrounding structure and result in reduced or loss of control of the airplane.

Has FAA taken any action to this point? We issued a proposal to amend part 39 of the Federal Aviation Regulations (14 CFR part 39) to include an AD that would apply to all Cessna Models 208 and 208B airplanes. This proposal was published in the Federal Register as a notice of proposed rulemaking (NPRM) on July 28, 2003 (68 FR 44252). The NPRM proposed to revise AD 2002-22-17 by proposing a new AD that would:

—Retain the actions from AD 2003-21-04, and add all flap bellcranks to the applicability;

—Retain the requirements of AD 2002-22-17; and

—Provide the option of installing the 40,000 landings life limit bellcranks.

Comments

Was the public invited to comment? We provided the public the opportunity to participate in developing this AD. The following presents the comments received on the proposal and FAA's response to each comment:

Comment Issue No. 1: Identify the New Flap Bellcrank (Part Number (P/N) 2622311-16)

What is the commenter's concern? The commenter writes that including by P/N this new flap bellcrank, which has a 40,000 landings life limit, in paragraph (f)(2)(ii) of the AD would be a good idea. We conclude that the commenter wants this specific bellcrank identified by part number to make this an obvious alternative bellcrank.

What is FAA's response to the concern? We are not incorporating the commenter's recommendation because the proposal already identifies the intent. The FAA already allows installation of any new design flap bellcrank by the words “* * *Or FAA approved equivalent P/N.” If we included this P/N, we would be obligated to revise the AD every time a new part was designed including part manufacturer approvals (PMAs).

Therefore, we are not changing the final rule AD action based on this comment.

Comment Issue No. 2: Allow Welding of Any Bellcrank With Missing Welds

What is the commenter's concern? The commenter recommends that FAA change the AD to allow welding of the bellcrank following Cessna Caravan Service Bulletin CAB03-11, Revision 1, dated September 24, 2003, except for the right hand inboard forward bellcrank. The commenter writes that this welding should be allowed since Cessna identifies welding in the above service bulletin.

What is FAA's response to the concern? The FAA disagrees with the commenter's recommendation. The FAA has determined that the unsafe condition is prevented through inspection of the applicable Bellcranks, with necessary replacements.

Therefore, we are not changing the final rule AD action based on this comment.

Comment Issue No. 3: Include Visual Inspection of the Aileron Bellcrank

What is the commenter's concern? The commenter recommends that in this AD that FAA allow inspection of the aileron bellcrank since Cessna Caravan Service Bulletin CAB04-3 requires visual inspection of the aileron bellcrank.

What is FAA's response to the concern? We disagree with the commenter's recommendation. Based on FAA's evaluation to this point, the unsafe condition is prevented through the inspections specified in the AD, with necessary replacement. The FAA will consider alternative methods of compliance (AMOC) on a case-by-case basis.

We are not changing the final rule AD action based on this comment.

Conclusion

What is FAA's final determination on this issue? We have carefully reviewed the available data and determined that air safety and the public interest require adopting the AD as proposed except for the changes discussed above and minor editorial corrections. We have determined that these changes and minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 1,300 airplanes in the U.S. registry.

What is the cost impact of this AD on owners/operators of the affected airplanes? For the actions retained from AD 2003-21-04, and the addition of all bellcranks to the applicability, we estimate the following costs to do this inspection:

Labor cost | Parts cost | Total cost per airplane | Total cost on U.S. operators
2 workhours × $65 per hour = $130 | No cost for parts | $130 | $130 × 1,300 = $169,000

We estimate the following costs to do any necessary replacements of the right inboard forward flap bellcrank (P/N 2622311-7, alternate P/N 2622311-16) that would be required based on the results of this inspection. We have no way of determining the number of airplanes that may need this replacement:

Labor cost | Parts cost | Total cost per airplane
3 workhours × $65 per hour = $195 | $1,845 | $195 + $1,845 = $2,040

We estimate the following costs to do any necessary replacements of the left inboard forward flap bellcrank (P/N 2622281-1) that would be required based on the results of this inspection. We have no way of determining the number of airplanes that may need this replacement:

Labor cost | Parts cost | Total cost per airplane
1 workhour × $65 per hour = $65 | $1,201 | $65 + $1,201 = $1,266

We estimate the following costs to do any necessary replacements of the right inboard aft flap bellcrank (P/N 2622267-8) that would be required based on the results of this inspection. We have no way of determining the number of airplanes that may need this replacement:

Labor cost | Parts cost | Total cost per airplane
1 workhour × $65 per hour = $65 | $1,273 | $65 + $1,273 = $1,338

We estimate the following costs to do any necessary replacements of the left inboard aft flap bellcrank (P/N 2622267-7) that would be required based on the results of this inspection. We have no way of determining the number of airplanes that may need this replacement:

Labor cost | Parts cost | Total cost per airplane
1 workhour × $65 per hour = $65 | $2,098 | $65 + $2,098 = $2,163

We estimate the following costs to do any necessary replacements of the left outboard flap bellcrank (P/N 2622091-17) that would be required based on the results of this inspection. We have no way of determining the number of airplanes that may need this replacement:

Labor cost | Parts cost | Total cost per airplane
1 workhour × $65 per hour = $65 | $627 | $65 + $627 = $692

We estimate the following costs to do any necessary replacements of the right outboard flap bellcrank (P/N 2622091-18) that would be required based on the results of this inspection. We have no way of determining the number of airplanes that may need this replacement:

Labor cost | Parts cost | Total cost per airplane
1 workhour × $65 per hour = $65 | $661 | $65 + $627 = $726

For the requirements from AD 2002-22-17 that you repetitively inspect the inboard forward flap bellcranks for cracks, eventually replace these bellcranks, and provides the option of installing the new design flap bellcrank to increase the life limits and terminate the repetitive inspections, we estimate the following costs to do the inspection:

Labor cost | Parts cost | Total cost per airplane | Total cost on U.S. operators
1 workhour × $65 per hour = $65 | No cost for parts | $65 | $65 × 1,300 = $84,500

We estimate the following costs to do any replacements using the same flap bellcrank (P/N 2622281-2, 2622281-12, 2692001-2, or FAA-approved equivalent P/N) that will be required based on the inspection or the reduced life limits:

Labor cost | Parts cost | Total cost per airplane | Total cost on U.S. operators
3 workhours × $65 per hour = $195 | $1,793 | $195 + $1,793 = $1,988 | $1,988 × 1,300 = $2,584,400

We estimate the following costs to do any replacements using the new flap bellcrank (P/N 2622311-7 or FAA-approved equivalent P/N) that will be required based on the inspection or the reduced life limits. We have no way of determining the number of airplanes that may need this replacement with the new flap bellcrank:

Labor cost | Parts cost | Total cost per airplane
3 workhours × $65 per hour = $195 | $1,845 | $195 + $1,845 = $2,040

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2002-CE-23-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2002-22-17, amendment 39-12944 (67 FR 68508, November 12, 2002), and AD 2003-21-04, amendment 39-13339 (68 FR 59707, October 17, 2003); and by adding a new AD to read as follows:

2004-17-01 Cessna Aircraft Company: Amendment 39-13772; Docket No. 2002-CE-23-AD; Supersedes AD 2002-22-17, amendment 39-12944; and AD 2003-21-04, amendment 39-13339.

When Does This AD Become Effective?

(a) This AD becomes effective on September 26, 2004.

What Other ADs Are Affected by This Action?

(b) This AD supersedes AD 2002-22-17, amendment 39-12944; and AD 2003-21-04, amendment 39-13339.

What Airplanes Are Affected by This AD?

(c) This AD affects the following airplane models and serial numbers that are certificated in any category:

(1) Group 1 (retains the actions from AD 2003-21-04, and adds all flap bellcranks to the applicability):

Model | Serial Nos.
208 | 20800001 through 20800369.
208B | 208B0001 through 208B1014, 208B1017, 208B1018, 208B1020 through 208B1024, 208B1026, and 208B1029 through 208B1033.

(2) Group 2 (retains the requirement of AD 2002-22-17 that you repetitively inspect the inboard forward flap bellcranks for cracks, eventually replace these bellcranks, and provides the option of installing the new design flap bellcrank to increase the life limits and terminate the repetitive inspections): Models 208 and 208B airplanes, all serial numbers.

What Is the Unsafe Condition Presented in This AD?

(d) This AD is the result of (since FAA issued AD 2002-22-17) Cessna's design of a new flap bell crank with a life limit of 40,000 landings (instead of 7,000 landings), and (since FAA issued AD 2003-21-04) further analysis and examination of cracks and missing/incomplete welds in all of the bell cranks. The actions specified in this AD are intended to prevent failure of any bellcrank due to cracks, deformation, or missing/incomplete welds. This failure could lead to damage to the flap system and surrounding structure and result in reduced or loss of control of the airplane.

What Must I Do To Address This Problem for Group 1 Airplanes?

(e) To address this problem for Group 1 airplanes, you must do the following:

Actions | Compliance | Procedures
(1) Inspect the right inboard forward flap bellcrank assembly for cracks, deformation, and missing/incomplete welds. The affected flap bellcrank incorporates one of the following part numbers (P/N): (i) P/N 2622083-18; (ii) P/N 2622281-2; (iii) P/N 2692001-2; or (iv) P/N 2622281-12. | Within the next 25 landings after October 21, 2003 (the effective date of AD 2003-21-04). If landings are unknown, then you may multiply hours time-in-service (TIS) by 1.25. For the purposes of this AD, you may substitute 20 hours TIS for 25 landings | Use a flashlight and a mirror as necessary to see if welds (1), (4), (5), and (6) exist and are at least 0.06-inch thick around the full circumference of the shaft. These welds and the inspection procedures are referenced in Figure 1, details A, B, and C; and Views A-A and B-B of Cessna Caravan Service Bulletin No.: CAB03-11, Revision 1, dated September 24, 2003.
(2) Inspect the left inboard forward bellcrank for cracks, deformation, and missing/incomplete welds. The affected flap bellcrank incorporates one of the following part P/Ns: (i) P/N 262283-15; or (ii) P/N 262281-1. | Within the next 25 landings after September 26, 2004, the effective date of this AD. If landings are unknown, then you may multiply hours TIS by 1.25. For the purposes of this AD, you may substitute 20 hours TIS for 25 landings | Use a flashlight and a mirror as necessary to see if welds (1) through (4) exist and are at least 0.06-inch thick around the full circumference of the shaft. These welds and the inspection procedures are referenced in Figure 2, details A, B, and C; and Views A-A and B-B of Cessna Caravan Service Bulletin No.: CAB03-11, Revision 1, dated September 24, 2003.
(3) Inspect the inboard aft bellcrank for cracks, deformation, and missing/incomplete welds. The affected flap bellcrank incorporates one of the following P/Ns: (i) P/N 2622267-1; or (ii) P/N 2622267-2; (iii) P/N 2622267-7; (iv) P/N 2622267-8; (v) P/N 2622083-1; or (vi) P/N 2622083-2. | Within the next 25 landings after September 26, 2004, the effective date of this AD. If landings are unknown, then you may multiply hours TIS by 1.25. For the purposes of this AD, you may substitute 20 hours TIS for 25 landings | Use a flashlight and a mirror as necessary to see if welds (1), (2), (4), and (5) exist and are at least 0.05-inch thick around the full circumference of the shaft. These welds and the inspection procedures are referenced in Figure 3, details A, B, and C; and Views A-A and B-B of Cessna Caravan Service Bulletin No.: CAB03-11, Revision 1, dated September 24, 2003.
(4) Inspect the outboard bellcrank for cracks, deformation, and missing/incomplete welds. The affected flap bellcrank incorporates one of the following P/Ns: (i) P/N 2622091-1; or (ii) P/N 2622091-2; (iii) P/N 2622091-9; (iv) P/N 2622091-10; (v) P/N 2622091-17; or (vi) P/N 2622091-28. | Within the next 25 landings after September 26, 2004, the effective date of this AD. If lands are unknown, then you may multiply hours TIS by 1.25. For the purposes of this AD, you may substitute 20 hours TIS for 25 landings | Use a flashlight and a mirror as necessary to see if welds (1) through (4) exist and are at least 0.05-inch thick around the full circumference of the shaft. These welds and the inspection procedures are referenced in Figure 4, details A, B, and C; and Views A-A and B-B of Cessna Caravan Service Bulletin No.: CAB03-11, Revision 1, dated September 24, 2003.
(5) If you find cracks, deformation, or missing/incomplete welds during the inspection required by paragraphs (e)(1) through (e)(4) of this AD, then do one of the following: (1) Replace the bellcrank with a new bellcrank; or (ii) Prohibit the use of flaps through the actions of paragraph (g) of this AD. | Replace or do the flap prohibition actions before further flight after the inspection required in paragraphs (e)(1) through (e)(4) of this AD. If you choose the flap prohibition, you must have the replacement done within 200 hours TIS after the inspection required by paragraphs (e)(1) through (e)(4) of this AD. After the new flap bellcrank is installed, the Temporary Revision 208PHTR02, dated September 23, 2003, should be removed | Replacement: Use the Accomplishment Instructions of Cessna Caravan Service bulletin No.: CAB02-12, Revision 1, dated January 27, 2003, and the Accomplishment Instructions of Cessna Caravan Service Kit No.: SK208-148A, dated January 27, 2003, or refer to the Maintenance Manual, Chapter 27, Flap System—Maintenance Practices, for bellcrank removal and installation procedures. Flap Prohibition: Use the information in the Temporary Revision 208PHTR02, dated September 23, 2003. The action is referenced in Cessna Caravan Service Bulletin No.: CAB03-11, Revision 1, dated September 24, 2003.

What Must I Do To Address This Problem for Group 2 Airplanes?

(f) To address this problem for Group 2 airplanes, you must do the following:

Actions | Compliance | Procedures
(1) Repetitive Inspections: Inspect, using eddy current method, any inboard forward flap bellcrank (P/N 2622281-2, 2622281-12, 2692001-2, or FAA-approved equivalent P/N) for cracks | Initially inspect upon the accumulation of 4,000 landings on the bellcrank or within the next 250 landings after December 31, 2002 (the effective date of AD 2002-22-17), whichever occurs later | Follow the Inspection Instructions of Cessna Caravan Service Bulletin No.: CAB02-1, dated February 11, 2002, and the applicable maintenance manual.
| Repetitively inspect thereafter at every 500 landings until 7,000 landings are accumulated at which time you must replace as required in paragraphs (f)(2) and (f)(3) of this AD. No repetitive inspections are required when a P/N 2622311-7 (or FAA-approved equivalent P/N) inboard forward flap bellcrank is installed
(2) Initial Replacement: Replace any inboard forward flap bellcrank (P/N 2622281-2, 2622281-12, 2692001-2, or FAA-approved equivalent P/N) with either: (i) a new flap bellcrank with the same P/N 2622281-2, 26228-12, 269001-2, or FAA-approved or equivalent P/N; or (ii) a new flap bellcrank (P/M 262231-7 or FAA-approved equivalent P/N). | If cracks are found, replace or do the flap prohibition actions before further flight after the inspection required in paragraphs (f)(1) of this AD. If you choose the flap prohibition, you must have the replacement done within 200 hours TIS after the inspection required by paragraphs (f)(1) of this AD. After the new flap bellcrank is installed, the Temporary Revision 208PHTR02, dated September 23, 2003, should be removed. If cracks are not found, initially replace at whichever occurs later: upon the accumulation of 7,000 landings on the bellcrank or within the next 75 landings after December 31, 2002 (the effective date of AD 2002-22-17) | Replacement: For flap bellcrank (P/N 2622281-2, 2622281-12, 2692001-2, or FAA-approved equivalent P/N): Follow the Instructions of Cessna Caravan Service Bulletin No.: CAB02-1, dated February 11, 2002, and the applicable maintenance manual. For new flap bellcrank (P/N 2622311-7 or FAA-approved equivalent P/N): Follow the Accomplishment Instructions of Cessna Caravan Service Bulletin No.: CAB02-12, Revision 1, dated January 27, 2003, and the Accomplishment Instructions of Cessna Caravan Service Kit No.: SK208-148A, dated January 27, 2003. Flap Prohibitions: Use the information in the Temporary Revision 208PHTR02, dated September 23, 2003.
(3) Life Limits (Repetitive Replacements): (i) The life limit for the inboard forward flap bellcranks (P/N 2622281-2, 2622281-12, 2692001-2, or FAA-approved equivalent P/N) is 7,000 landings. Repetitive inspections every 500 landings begin at 4,000 landings (see paragraph (f)(1) of this AD.) (ii) The life limit for the inboard forward flap bellcranks (P/N 2622311-7 or FAA-approved equivalent P/N) is 40,000 landings. No repetitive inspections are required on these bellcranks. | Replace at the applicable referenced life limits | Use the service information referenced in paragraph (f)(2) of this AD.

Note 1: Inboard forward flap bellcranks (P/N 2622281-2, 2622281-12, or 2692001-2) with 7,000 landings or more do not have to be replaced until 75 landings after December 31, 2002 (the effective date of AD 2002-22-17), unless found cracked.

Note 2: The compliance times of this AD are presented in landings instead of hours TIS. If the number of landings is unknown, hours TIS may be used by multiplying the number of hours TIS by 1.25.

What Are the Actions I Must Do if I Choose the Flap Prohibition Option?

(g) Insert Temporary Revision, 208PHTR02, dated September 23, 2003, into the applicable pilot's operating handbook and FAA-approved airplane flight manual. The owner/operator holding at least a private pilot certificate as authorized by section 43.7 of the Federal Aviation Regulations (14 CFR 43.7) may incorporate this information into the AFM. Make an entry into the aircraft records showing compliance with this portion of the AD in accordance with section 43.9 of the Federal Aviation Regulations (14 CFR 43.9).

(1) This procedure applies to Cessna Models 208 and 208B landplanes. For other FAA-approved aircraft configurations (for example, amphibian, floatplanes, and so forth), you must operate with flaps up per the appropriate airplane flight manual supplement.

(2) This procedure allows for applicable deviation from the Master Minimum Equipment List (MMEL) for these airplanes until the flap bell crank is replaced. The applicable MMEL requirements go back into effect at the time of flap bell crank replacement.

May I Request an Alternative Method of Compliance?

(h) You may request a different method of compliance or a different compliance time for this AD by following the procedures in 14 CFR 39.19. Unless FAA authorizes otherwise, send your request to your principal inspector. The principal inspector may add comments and will send your request to the Manager, Wichita Aircraft Certification Office (ACO), FAA.

(1) For information on any already approved alternative methods of compliance, contact Paul Nguyen, Aerospace Engineer, FAA, Wichita ACO, 1801 Airport Road, Room 100, Wichita, Kansas 67209; telephone: 316-946-4125; facsimile: 816-946-4107.

(2) Alternative methods of compliance approved under AD 2002-22-17 and AD 2003-21-04 are not approved for this AD.

Does This AD Incorporate Any Material by Reference?

(i) You must do the actions required by this AD following the instructions in the service information presented in paragraphs (i)(1) and (i)(2) of this AD.

(1) On December 31, 2002 (67 FR 68508, November 12, 2002) and in accordance with 5 U.S.C. 552(a) and 1 CFR part 51, the Director of the Federal Register approved the incorporation of Cessna Service Bulletin No.: CAB02-1, dated February 11, 2002.

(2) On October 21, 2003 (68 FR 59707, October 17, 2003), and in accordance with 5 U.S.C. 552(a) and 1 CFR part 51, the Director of the Federal Register approved the incorporation of Cessna Caravan Service Bulletin No.: CAB03-11, Revision 1, dated September 24, 2003; Cessna Caravan Service Bulletin No. CAB02-12, revision 1, dated January 27, 2003; and Cessna Caravan Service Kit No.: SK208-148A, dated January 27, 2003 (original issue: October 21, 2002).

(3) You may get a copy from Cessna Aircraft Company, Product Support, P.O. Box 7706, Wichita, Kansas 67277; telephone: (316) 517-5800; facsimile: (316) 942-9006. You may review copies at FAA, Central Region, Office of the Regional Counsel, 901 Locust, Room 506, Kansas City, Missouri 64106; or at the National Archives and Records Administration (NARA). For information on the availability of this material at NARA, call (202) 741-6030, or go to: http://www.archives.gov/federal_register/code_of_federal _regulations/ibr_locations.html.

Issued in Kansas City, Missouri, on August 5, 2004.
Dorenda D. Baker,
Manager, Small Airplane Directorate, Aircraft Certification Service.

[FR Doc. 04-18554 Filed 8-12-04; 8:45 am]

BILLING CODE 4910-13-P